DEPARTMENT OF THE INTERIOR

National Park Service

National Register of Historic Places; Weekly Listing of Historic Properties

Pursuant to (36 CFR 60.13(b,c)) and (36CFR63.5), this notice, through publication of the information included herein, is to appraise the public as well as governmental agencies, associations and all other organizations and individuals interested in historic preservation, of the properties added to the National Register of Historic Places from October 1 to October 10, 2008. This notice also includes cumulative Federal Determinations of Eligibility for FY 2008.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: October 29, 2008.
J. Paul Loether,
Chief, National Register of Historic Places/National Historic Landmarks Program.

KEY: State, County, Property Name, Address/Boundary, City, Vicinity, Reference Number, Action, Date, Multiple Name

ALABAMA, MOBILE COUNTY, United States Court House and Custom House, 113 St. Joseph St., Mobile, 08000964, LISTED, 10/08/08

ARKANSAS, JACKSON COUNTY, Erwin Auxiliary Army Airfield, NE. of AR 14 and Jackson Rd. 917 jct., Newport vicinity, 08000954, LISTED, 10/02/08 (World War II Home Front Efforts in Arkansas)

ARKANSAS, SEBASTIAN COUNTY, Greenwood Presbyterian Church, 103 W. Denver St., Greenwood, 08000955, LISTED, 10/01/08

COLORADO, CHAFFEE COUNTY, Heister House, 102 Poncha Blvd., Salida, 08000965, LISTED, 10/08/08

DISTRICT OF COLUMBIA, DISTRICT OF COLUMBIA STATE EQUIVALENT, Slayton, William L., House, 3411 Ordway St., NW, Washington DC, 08000956, LISTED, 10/02/08

FLORIDA, PUTNAM COUNTY State Road 20 Billboard, FL Rt. 20, Between Interlachen and Hawthorne, 65009960, *DETERMINED ELIGIBLE, 8/27/08

FLORIDA, ST. JOHNS COUNTY, Stanbury Cottage, 232 St. George St., St. Augustine, 08000966, LISTED, 10/08/08

GEORGIA, FULTON COUNTY, General Electric Company Repair Shop and Warehouse, 488 Glenn Ave., Fulton, 08000968, LISTED, 10/10/08

KENTUCKY, HARRISON COUNTY, Site 2, KY 356, Cynthiana, 65009935, *DETERMINED ELIGIBLE, 12/11/07

MISSOURI, JACKSON COUNTY, Aines Farm Dairy Building, 3110-30 Gillham Rd., Kansas City, 08000960, LISTED, 10/01/08

NEW JERSEY, CAPE MAY COUNTY, U.S. Life-Saving Station No. 35, 11617 2nd Ave., Stone Harbor Borough, 08000970, LISTED, 10/08/08

NEW JERSEY, SOMERSET COUNTY, Vail-Trust House, 225 Greenbrook Rd., Green Brook, 08000972, LISTED, 10/07/08

NEW JERSEY, WARREN COUNTY, Phillipsburg Commercial Historic District, 29-169 S. Main St., 60-178 S. Main St., 3 Hudson St., 9 and 12-30 Morris St./Main St., 7-11, 17, and 21-27 Union Sq., Phillipsburg Town, 08000973, LISTED, 10/08/08

NORTH CAROLINA, BUNCOMBE COUNTY, Proximity Park Historic District, Roughly bounded by Macon Ave., Howland Rd., Woodlink Rd., Charlotte St., and Sunset Trail, Asheville, 08000974, LISTED, 10/08/08

OHIO, HAMILTON COUNTY, Sedamsville River Road Historic District, 2449-2734 River Rd., 309-317 Mt. Hope and 604 Mt. Echo, Cincinnati, 08000975, LISTED, 10/10/08

OREGON, LANE COUNTY, Eugene Civic Stadium, 2077 Willamette St., Eugene, 08000183, LISTED, 10/06/08

TEXAS, HALL COUNTY, Hall County Courthouse, 512 W. Main, Memphis, 08000961, LISTED, 10/01/08

TEXAS, HIDALGO COUNTY, M and J Nelson Building,

300-308 S. 14th St., McAllen, 08000962, LISTED, 10/01/08

UTAH, SALT LAKE COUNTY, Fisher, Albert, Mansion and Carriage House, 1206 West 200 South, Salt Lake City, 83004675, LISTED, 10/08/08

UTAH, SALT LAKE COUNTY, Salt Lake City Main Library, 209 E. 500 S. St., Salt Lake City, 65009955, *DETERMINED ELIGIBLE, 01/15/08

WISCONSIN, COLUMBIA COUNTY, Lodi Downtown Historic District, 133, 137-139, 143, 147, 157, and 161-165 S. Main St., Lodi, 08000980, DETERMINED ELIGIBLE, 10/10/08

WISCONSIN, ASHLAND COUNTY, MOONLIGHT shipwreck, Address Restricted, La Pointe vicinity, 08000979, LISTED, 10/01/08 (Great Lakes Shipwreck Sites of Wisconsin MPS)

WISCONSIN, RICHLAND COUNTY, Shadewald II Mound Group, Address Restricted, Town of Eagle vicinity, 08000963, LISTED, 10/02/08 (Late Woodland Stage in Archeological Region 8 MPS)

WISCONSIN, VILAS COUNTY, Everett Resort, The, 1269 Everett Rd., Washington, 08000982, LISTED, 10/08/08

WYOMING, CONVERSE COUNTY, Hotel LaBonte, 206 Walnut St., Douglas, 08001003, LISTED, 10/10/08

*Denotes FEDERAL DETERMINATION OF ELIGIBILITY

[FR Doc. E8-26645 Filed 11-7-08; 8:45 am]

BILLING CODE 4310-70-P